DEPARTMENT OF ENERGY

Federal Energy Regulatory Commission

Notice of FERC Staff Attendance

PacifiCorp | Docket No. ER13-64-000.
Deseret Generation & Transmission Cooperative, Inc. | Docket No. ER13-65-000.
Northwestern Corporation (Montana) | Docket No. ER13-67-000.
Portland General Electric Company | Docket No. ER13-68-000.
Idaho Power Company | Docket No. ER13-127-000.
Public Service Company of Colorado | Docket No. ER13-75-000.
Terra-Gen Dixie Valley, LLC | Docket No. ER13-76-000.
Tucson Electric Power Company | Docket No. ER13-77-000.
UNS Electric, Inc. | Docket No. ER13-78-000.
Public Service Company of New Mexico | Docket No. ER13-79-000.
Arizona Public Service Company | Docket No. ER13-82-000.
El Paso Electric Company | Docket No. ER13-91-000.
Black Hills Power, Inc., et al. | Docket No. ER13-96-000.
Black Hills Colorado Electric Utility Company | Docket No. ER13-97-000.
NV Energy, Inc | Docket No. ER13-105-000.
Cheyenne Light, Fuel and Power Company | Docket No. ER13-120-000.
Avista Corporation | Docket No. ER13-93-000.
Avista Corporation | Docket No. ER13-94-000.
Puget Sound Energy | Docket No. ER13-98-000.
Puget Sound Energy | Docket No. ER13-99-000.
Bonneville Power Administration | Docket No. NJ13-1-000.
California Independent System Operator Corporation | Docket No. ER13-103-000.

The Federal Energy Regulatory Commission (Commission) hereby gives notice that on December 19, 2012, members of its staff will attend a meeting hosted by NV Energy, Inc. regarding the interregional coordination requirements established by Order No. 1000. The agenda and other documents for the meeting are available at http://www.columbiagrid.org/O1000Inter-documents.cfm.

The meeting is open to all stakeholders and Commission staff's attendance is part of the Commission's ongoing outreach efforts. The meeting may discuss matters at issue in the above captioned dockets.

For further information, contact Melissa Lozano at Melissa.Lozano@ferc.gov.

Dated: December 11, 2012.
Kimberly D. Bose,
Secretary.

[FR Doc. 2012-30395 Filed 12-17-12; 8:45 am]

BILLING CODE 6717-01-P